DEPARTMENT OF AGRICULTURE

Farm Service Agency

Information Collection Request; Guaranteed Farm Loan Program

AGENCY: Farm Service Agency, USDA.

ACTION: Notice; request for comment.

SUMMARY: In accordance with the Paperwork Reduction Act of 1995, the Farm Service Agency (FSA) is requesting comments from all interested individuals and organizations on an extension with a revision of a currently approved information collection associated with the Guaranteed Farm Loan Program. The collected information is needed to make and service loans guaranteed by FSA to eligible farmers and ranchers by commercial lenders and nontraditional lenders. FSA is also requesting approval to merge the information collection for the EZ Guarantee Program and the Micro Lender Program (MLP) (0560-0288) into the Guaranteed Farm Loan Program.

DATES: We will consider comments that we receive by March 20, 2017.

ADDRESSES: We invite you to submit comments on this notice. In your comments, include date, volume, and page number of this issue of the Federal Register. You may submit comments by any of the following methods:

• Federal eRulemaking Portal: Go to: www.regulations.gov. Follow the online instructions for submitting comments.

• Mail: Trent Rogers, Senior Loan Specialist, USDA, FSA, Stop 0522, 1400 Independence Avenue SW., Washington, DC 20250.

You may also send comments to the Desk Officer for Agriculture, Office of Information and Regulatory Affairs, Office of Management and Budget, Washington, DC 20503. Copies of the information collection may be requested by contacting Trent Rogers at the above addresses.

FOR FURTHER INFORMATION CONTACT: Trent Rogers, Senior Loan Specialist, (202) 720-3889.

SUPPLEMENTARY INFORMATION:

Description of Information Collection

Title: Guaranteed Farm Loans.

OMB Number: 0560-0155.

Expiration Date of Approval: 05/31/2017.

Type of Request: Extension with a revision.

Abstract: This information collection is needed to effectively administer the FSA guaranteed farm loan programs. The information is collected by the FSA loan official in consultation with participating lenders. The basic objective of the guaranteed loan program is to provide credit to applicants who are unable to obtain credit from lending institutions without a guarantee. The reporting requirements imposed on the public by the regulations at 7 CFR part 762 and 763 are necessary to administer the guaranteed loan program in accordance with statutory requirements of the Consolidated Farm and Rural Development Act and are consistent with commonly performed lending practices. Collection of information after loans are made is necessary to protect the Government's financial interest.

The estimated total annual burden hours are amended due to the EZ Guarantee Program and the Micro Lender Program (MLP), which reduced the information collection requirements. Therefore, the burden hours are being provided currently in this request for OMB approval. The annual responses have been reduced by 23,764 while the burden hours reduced by 33,340 hours in the request.

For the following estimated total annual burden on respondents, the formula used to calculate the total burden hours is the estimated average time per responses multiplied by the estimated total annual of responses.

Estimate of Average Time to Respond: Public reporting burden for collecting information under this notice is estimated to average 0.9989 minutes per response, including the time for reviewing instructions, searching existing data sources, gathering and maintaining the data needed, and completing and reviewing the collection of information. The average travel time, which is included in the total annual burden, is estimated to be 1 hour per respondent.

Type of Respondents: Businesses or other for-profits and Farms.

Estimated Number of Respondents: 14,585.

Estimated Average Number of Responses Per Respondent: 15.308.

Estimated Total Annual Responses: 220,213.

Estimated Average Time per Response: 0.9989.

Estimated Total Annual Burden on Respondents: 220,213 hours.

We are requesting comments on all aspects of this information collection to help us to:

(1) Evaluate whether the proposed collection of information is necessary for the proper performance of the functions of the agency, including whether the information will have practical utility;

(2) Evaluate the accuracy of the agency's estimate of burden of the collection of information including the validity of the methodology and assumptions used;

(3) Evaluate the quality, utility and clarity of the information technology; and

(4) Minimize the burden of the information collection on those who respond through the use of appropriate automated, electronic, mechanical, or other technological collection techniques or other forms of information technology.

All comments received in response to this notice, including names and addresses where provided, will be made a matter of public record. Comments will be summarized and included in the request for OMB approval.

Val Dolcini,
Administrator, Farm Service Agency.

[FR Doc. 2017-01072 Filed 1-18-17; 8:45 am]

BILLING CODE 3410-05-P